DEPARTMENT OF HEALTH AND HUMAN SERVICES

Health Resources and Services Administration

Agency Information Collection Activities: Proposed Collection: Comment Request

In compliance with the requirement for opportunity for public comment on proposed data collection projects [section 3506(c)(2)(A) of Title 44, United States Code, as amended by the Paperwork Reduction Act of 1995, Public Law 104-13], the Health Resources and Services Administration (HRSA) will publish periodic summaries of proposed projects developed for submission to OMB under the Paperwork Reduction Act of 1995. To request more information on the proposed project or to obtain a copy of the data collection plans and draft instruments, call the HRSA Reports Clearance Officer at (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Health Care for the Homeless Program User/Visit Surveys—New

The Bureau of Primary Health Care (BPHC) of HRSA is planning to conduct User/Visit Surveys of the Health Care for Homeless Program (HCHP). The purpose of this study is to conduct nationally representative surveys, which have the following components: (1) A personal interview survey of HCHP site users; and (2) a record-based study of visits to HCHP sites.

The HCHP is the Federal program with the sole responsibility for addressing the critical primary health care needs of homeless individuals. The HCHP is administered by the BPHC. The BPHC is interested in knowing more about the general and specific characteristics of the HCHP users and their visits to the HCHP sites. As a consequence, a personal interview survey (User Survey) will be administered to a nationally representative sample of HCHP users and a representative sample of medical visits of HCHP sites (Visit Survey) will be examined as well. These surveys are designed and intended to be primary sources of information on the health and visits of the HCHP users. The information will provide policymakers with a better understanding of the services that HCHP users are receiving at HCHP sites and how well these sites are meeting the needs of HCHP users.

Data from the surveys will provide quantitative information on the homeless population served by the HCHP, specifically: (a) Sociodemographic characteristics, (b) health care access and utilization, (c) health status and morbidity, (d) health care experiences and risk behaviors, (e) content of medical encounters, (f) preventive care, and (g) living conditions. These surveys will provide data useful to the HCHP and will enable HRSA to provide data required by Congress under the Government Performance and Results Act of 1993.

The estimated burden on respondents and HCHP site staff is as follows:

Form | Number of respondents | Hours per respondent | Total hour burden
Users of HCHP Sites | 1000 | 1 | 1000
Abstraction of Visit Records by HCHP Site Staff | 1000 | .25 | 250
Total | 1000 |  | 1,250

Send comments to Susan Queen, Ph.D., HRSA Reports Clearance Officer, Room 11-05, Parklawn Building, 5600 Fishers Lane, Rockville, MD 20857. Written comments should be received within 60 days of this notice.

Dated: March 4, 2002.
Jane M. Harrison,
Director, Division of Policy Review and Coordination.

[FR Doc. 02-5488 Filed 3-6-02; 8:45 am]

BILLING CODE 4165-15-P